ENVIRONMENTAL PROTECTION AGENCY

[FRL-9265-4]

Notice of Open Meeting of the Environmental Financial Advisory Board (EFAB)

AGENCY: Environmental Protection Agency (EPA).

ACTION: Notice.

SUMMARY: The United States Environmental Protection Agency's (EPA) Environmental Financial Advisory Board (EFAB) will hold a meeting on March 8-9, 2011. EFAB is an EPA advisory committee chartered under the Federal Advisory Committee Act (FACA) to provide advice and recommendations to EPA on creative approaches to funding environmental programs, projects, and activities.

The purpose of the meeting is to hear from informed speakers on environmental finance issues, proposed legislation, Agency priorities and to discuss progress with work projects under EFAB's current Strategic Action Agenda.

Environmental Finance topics expected to be discussed include: Financing Clean Air Technology; Voluntary Environmental Improvement Bonds (VEIB)/Property Assessed Clean Energy (PACE) Financing Environmental Improvements; Financing Infrastructure for Tribal Communities; and Leveraging Private Investments to Create Sustainable Communities.

The meeting is open to the public, however, seating is limited. All members of the public who wish to attend the meeting should register in advance, no later than Monday, February 28, 2011.

DATES: Tuesday, March 8, 2011 from 1:30 p.m.-5 p.m. and Wednesday, March 9, 2011 from 9 a.m.-5 p.m.

ADDRESSES: Crowne Plaza Old Town Alexandria Hotel, 901 North Fairfax Street, Alexandria, VA 22314.

Registration and Information Contact

For information on access or services for individuals with disabilities, or to request accommodations for a person with a disability, please contact Sandra Williams, U.S. EPA, at (202) 564-4999 or williams.sandra@epa.gov, at least 10 days prior to the meeting, to allow as much time as possible to process your request.

Dated: February 4, 2011.
Joseph L. Dillon,
Director, Center for Environmental Finance.

[FR Doc. 2011-3113 Filed 2-10-11; 8:45 am]

BILLING CODE 6560-50-P